DEPARTMENT OF COMMERCE

International Trade Administration

[A-533-847]

1-Hydroxyethylidene-1, 1-Diphosphonic Acid From India: Final Results of Antidumping Duty Administrative Review

AGENCY: Import Administration, International Trade Administration, Department of Commerce.

SUMMARY: On December 16, 2011, the Department of Commerce (Department) published the preliminary results of the second administrative review of the antidumping duty order on 1-Hydroxyethylidene-1, 1-Diphosphonic Acid from India. The review covers one manufacturer/exporter of the subject merchandise to the United States: Aquapharm Chemicals Pvt., Ltd. (Aquapharm). The period of review (POR) is April 1, 2010, through March 31, 2011. The final weighted-average dumping margin for the manufacturer/exporter is listed below in the “Final Results of Review” section of this notice.

DATES: Effective Date: March 15, 2012.

FOR FURTHER INFORMATION CONTACT: David Goldberger or Brandon Custard, AD/CVD Operations, Office 2, Import Administration, International Trade Administration, U.S. Department of Commerce, 14th Street and Constitution Avenue NW., Washington, DC, 20230; telephone: (202) 482-4136 or (202) 482-1823, respectively.

SUPPLEMENTARY INFORMATION:

Background

The review covers one manufacturer/exporter of the subject merchandise to the United States: Aquapharm.

On December 16, 2011, the Department published in the Federal Register the preliminary results of the second administrative review of the antidumping duty order on 1-Hydroxyethylidene-1, 1-Diphosphonic Acid from India (76 FR 78237).

We invited parties to comment on the preliminary results of the review. No interested party submitted comments. Therefore, the final results do not differ from the preliminary results. The Department has conducted this administrative review in accordance with section 751 of the Tariff Act of 1930, as amended (the Act).

Scope of the Order

The merchandise covered by this order includes all grades of aqueous, acidic (non-neutralized) concentrations of 1-hydroxyethylidene-1, 1-diphosphonic acid ¹ also referred to as hydroxethlylidenediphosphonic acid, hydroxyethanediphosphonic acid, acetodiphosphonic acid, and etidronic acid. The CAS (Chemical Abstract Service) registry number for HEDP is 2809-21-4. The merchandise subject to this order is currently classified in the Harmonized Tariff Schedule of the United States (HTSUS) at subheading 2931.00.9043. It may also enter under HTSUS subheading 2811.19.6090. While HTSUS subheadings are provided for convenience and customs purposes only, the written description of the scope of this order is dispositive.

¹ C2H8O7P2 or C(CH3)(OH)(PO3H2)2.

Final Results of the Review

As a result of our review, we determined that the following weighted-average margin percentage applies for the period April 1, 2010, through March 31, 2011:

Manufacturer/Exporter | Margin (percent)
Aquapharm Chemicals Pvt., Ltd | 0.00

Assessment Rates

The Department shall determine, and U.S. Customs and Border Protection (CBP) shall assess, antidumping duties on all appropriate entries, in accordance with 19 CFR 351.212. The Department intends to issue appropriate appraisement instructions for the respondent subject to this review directly to CBP 15 days after the date of publication of the final results of this review.

Where the respondent reported entered value for its U.S. sales, we have calculated importer-specific ad valorem duty assessment rates based on the ratio of the total amount of antidumping duties calculated for the examined sales to the total entered value of the examined sales for that importer.

Where the respondent did not report entered value for its U.S. sales, we have calculated importer-specific per-unit duty assessment rates by aggregating the total amount of antidumping duties calculated for the examined sales and dividing this amount by the total quantity of those sales. To determine whether the duty assessment rates are de minimis, in accordance with the requirement set forth in 19 CFR 351.106(c)(2), we have calculated importer-specific ad valorem ratios based on the estimated entered value.

We will instruct CBP to assess antidumping duties on all appropriate entries covered by this review if any importer-specific assessment rate calculated in the final results of this review is above de minimis (i.e., at or above 0.50 percent). Pursuant to 19 CFR 351.106(c)(2), we will instruct CBP to liquidate without regard to antidumping duties any entries for which the assessment rate is de minimis (i.e., less than 0.50 percent). The final results of this review shall be the basis for the assessment of antidumping duties on entries of merchandise covered by the final results of this review and for future deposits of estimated duties, where applicable.

The Department clarified its “automatic assessment” regulation on May 6, 2003. See Antidumping and Countervailing Duty Proceedings: Assessment of Antidumping Duties, 68 FR 23954 (May 6, 2003) (Assessment Policy Notice). This clarification will apply to entries of subject merchandise during the POR produced by the company included in these final results of review for which the reviewed company did not know that the merchandise it sold to the intermediary (e.g., a reseller, trading company, or exporter) was destined for the United States. In such instances, we will instruct CBP to liquidate unreviewed entries at the all-others rate effective during the POR if there is no rate for the intermediary involved in the transaction. See Assessment Policy Notice for a full discussion of this clarification.

Cash Deposit Requirements

The following cash deposit requirements will be effective for all shipments of the subject merchandise entered, or withdrawn from warehouse, for consumption on or after the publication date of the final results of this administrative review, as provided by section 751(a)(2)(C) of the Act: (1) The cash deposit rate for the company listed above is less than 0.50 percent and, therefore, de minimis within the meaning of 19 CFR 351.106(c)(1), and therefore the cash deposit rate is 0 percent; (2) for previously reviewed or investigated companies not participating in this review, the cash deposit rate will continue to be the company-specific rate published for the most recent period; (3) if the exporter is not a firm covered in this review or the original less-than-fair-value (LTFV) investigation, but the manufacturer is, the cash deposit rate will be the rate established for the most recent period for the manufacturer of the merchandise; and (4) the cash deposit rate for all other manufacturers or exporters will continue to be 3.10 percent, the all-others rate established in the LTFV investigation. See 1-Hydroxyethylidene-1, 1- Diphosphonic Acid from India: Notice of Final Determination of Sales at Less Than Fair Value, 74 FR 10543 (March 11, 2009). These requirements, when imposed, shall remain in effect until further notice.

Notification to Importers

This notice also serves as a final reminder to importers of their responsibility under 19 CFR 351.402(f) to file a certificate regarding the reimbursement of antidumping duties prior to liquidation of the relevant entries during this review period. Failure to comply with this requirement could result in the Secretary's presumption that reimbursement of antidumping duties occurred and the subsequent assessment of double antidumping duties.

This administrative review and notice are published in accordance with sections 751(a)(1) and 777(i)(1) of the Act and 19 CFR 351.221.

Dated: March 7, 2012.
Paul Piquado,
Assistant Secretary for Import Administration.

[FR Doc. 2012-6303 Filed 3-14-12; 8:45 am]

BILLING CODE 3510-DS-P